DEPARTMENT OF HEALTH AND HUMAN SERVICES

Centers for Disease Control and Prevention

[Program Announcement AA146]

A Cooperative Agreement for the Alzheimer's Association To Partner and Implement Public Health Strategies Related to Alzheimer's Disease; Notice of Intent To Fund Single Eligibility Award

A. Purpose

The Centers for Disease Control and Prevention (CDC) announces the intent to fund fiscal year (FY) 2005 funds for a cooperative agreement program to conduct Alzheimer's disease related strategies that promote public awareness and partnership; provide Alzheimer's disease education for the general public and for health professionals; and develop and enhance communication channels to allow for improved interaction and information sharing among those with Alzheimer's disease, researchers, public health scientists, and the general public. The Catalog of Federal Domestic Assistance number for this program is 93.283.

B. Eligible Applicant

Assistance will be provided only to the Alzheimer's Association (ALZ), 225 N. Michigan Avenue, Fl. 17, Chicago, IL 60601-7533.

The 2005 funding authority for this activity comes from the Congressional Conference Committee language specifically stating under the Senate Committee language S-Rep. 108-345, “* * * The Committee strongly urges the CDC to work with the Alzheimer's Association to design and launch an Alzheimer's specific-segment of the Healthy Aging program, to aggressively educate the public and health professionals as to ways to reduce the risks of developing Alzheimer's by maintaining a healthy lifestyle.”

• The Alzheimer's Association (ALZ), is the world leader in Alzheimer research and support. It is a voluntary health organization founded in 1980. It is dedicated to finding preventions, treatments and eventually, a cure for Alzheimer dementia. The mission of ALZ is to eliminate Alzheimer's disease through the advancement of research and to enhance care and support for individuals, their families and caregivers. ALZ's extensive nationwide network includes the national office in Chicago, the public policy office in Washington DC, 81 chapters and 300 local points of service across the United States, making it highly probable that ALZ will successfully achieve the activities outlined in section 1 of this RFA. Among some of ALZ's major organizational accomplishments are:

• The establishment of a nationwide toll-free “Contact Center” available 24 hours a day, seven days a week, to families and health care professionals where staff provide information and put people in touch with ALZ local chapters to address a variety of dementia-related issues;

• A peer-reviewed research grant program which has funded more than 1,300 studies at approximately $165 million since it was founded, into the science that may lead to the causes, treatment and prevention of Alzheimer's disease;

• The establishment of the Alzheimer's Association “Safe Return” program which is a nationwide identification, support and enrollment program that provides security for those who may wander; and

• The operation of the Alzheimer's Association Green-Field Library, the nation's largest library dedicated to Alzheimer's disease, to name just a few.

These accomplishments are unmatched by any other public or private Alzheimer's disease specific organization currently conducting similar activities in the United States. As of fiscal year 2004, ALZ had total assets of $98.6 million and is the largest voluntary private organization funding Alzheimer's research in the United States. No other public or private Alzheimer's disease specific organization can claim a fiscal record as ALZ. For these reasons, the Alzheimer's Association is the only organization being considered for this program announcement.

C. Funding

Approximately $759,000 is available in FY 2005 to fund this award. It is expected that the award will begin on or before August 31, 2005 and will be made for a 12-month budget period within a project period of up to Five years. Funding estimates may change.

D. Where To Obtain Additional Information

For general comments or questions about this announcement, contact: Technical Information Management, CDC Procurement and Grants Office, 2920 Brandywine Road, Atlanta, GA 30341-4146, Telephone: (770) 488-2700.

For technical questions about this program, contact: Lynda A. Anderson, Project Officer, HCAS/DACH/NCCDPHP/CDC, 4770 Buford Hwy., NE., MS K-51,Telephone: (770) 488-5998, E-mail: laa0@cdc.gov.

Dated: June 16, 2005.
William P. Nichols,
Director, Procurement and Grants Office, Centers for Disease Control and Prevention.

[FR Doc. 05-12291 Filed 6-21-05; 8:45 am]

BILLING CODE 4163-18-P